FEDERAL COMMUNICATIONS COMMISSION

47 CFR Part 54

[WC Docket Nos. 18-143, 10-90, 14-58; FCC 19-95; FRS 75184]

The Uniendo a Puerto Rico Fund and the Connect USVI Fund, Connect America Fund, ETC Annual Reports and Certifications; Correction

AGENCY: Federal Communications Commission.

ACTION: Correcting amendment.

SUMMARY: This document corrects an error in the regulatory text of a Federal Register document that took major steps to promote the deployment of advanced, hardened networks in the Territories by allocating nearly a billion dollars in Federal universal service support in Puerto Rico and the U.S. Virgin Islands. The summary was published in the Federal Register on November 7, 2019, and this document corrects the final regulations in that document.

DATES: Effective March 11, 2022.

FOR FURTHER INFORMATION CONTACT: Jesse Jachman, Wireline Competition Bureau, (202) 418-7400.

SUPPLEMENTARY INFORMATION: This summary contains a correction to the regulatory text of a Federal Register document, 84 FR 59937, November 7, 2019. The full text of the Federal Communications Commission's (Commission or FCC) Report and Order and Order on Reconsideration in WC Docket Nos. 18-143, 10-90, 14-58; FCC 19-95, released on September 30, 2019, is available for public inspection during regular business hours in the FCC Reference Center, 45 L Street NE, Washington, DC 20554. See also the Commission's notification of intent to correct published at 85 FR 78814, December 7, 2020, and the announcement of effective date published at 87 FR 9453, February 22, 2022.

List of Subjects in 47 CFR Part 54

Communications common carriers, Health facilities, Infants and children, internet, Libraries, Reporting and recordkeeping requirements, Schools, Telecommunications, Telephone.

Accordingly, 47 CFR part 54 is corrected by making the following correcting amendment:

PART 54—UNIVERSAL SERVICE

1. The authority citation for part 54 continues to read as follows:

Authority: 47 U.S.C. 151, 154(i), 155, 201, 205, 214, 219, 220, 229, 254, 303(r), 403, 1004, 1302, and 1601-1609, unless otherwise noted.

2. In § 54.316, revise paragraph (b)(7) to read as follows:

§ 54.316 Broadband deployment reporting and certification requirements for high-cost recipients.

* * * * *

(b) * * *

(7) Recipients of Uniendo a Puerto Rico Fund Stage 2 fixed and Connect USVI Fund fixed Stage 2 fixed support shall provide: On an annual basis by the last business day of the second calendar month following each service milestone in § 54.1506, a certification that by the end of the prior support year, it was offering broadband meeting the requisite public interest obligations specified in § 54.1507 to the required percentage of its supported locations in Puerto Rico and the U.S. Virgin Islands as set forth in § 54.1506. The annual certification shall quantify the carrier's progress toward or, as applicable, completion of deployment in accordance with the resilience and redundancy commitments in its application and in accordance with the detailed network plan it submitted to the Wireline Competition Bureau.

* * * * *

Federal Communications Commission.
Marlene Dortch,
Secretary.

[FR Doc. 2022-05116 Filed 3-10-22; 8:45 am]

BILLING CODE 6712-01-P